DEPARTMENT OF ENERGY

Federal Energy Regulatory Commission

Notice of Effectiveness of Exempt Wholesale Generator and Foreign Utility Company Status

| Docket Nos.
Eastover Solar LLC | EG22-215-000
PGR 2021 Lessee 17, LLC | EG22-216-000
Yellow Pine Solar, LLC | EG22-217-000
Mesquite Solar 4, LLC | EG22-218-000
Mesquite Solar 5, LLC | EG22-219-000
Fall River Solar, LLC | EG22-220-000
DLS—Jean Duluth Project Co, LLC | EG22-221-000
DLS—Laskin Project Co, LLC | EG22-222-000
DLS—Sylvan Project Co, LLC | EG22-223-000
GulfStar Power, LLC | EG22-224-000
Yellowbud Solar, LLC | EG22-225-000
Jicarilla Solar 1 LLC | EG22-226-000
Jicarilla Storage 1 LLC | EG22-227-000
Colice Hall Solar, LLC | EG22-228-000
I Squared Capital | FC22-3-000

Take notice that during the month of November 2022, the status of the above-captioned entities as Exempt Wholesale Generators or Foreign Utility Companies became effective by operation of the Commission's regulations. 18 CFR 366.7(a) (2021).

Dated: December 1, 2022.
Kimberly D. Bose,
Secretary.

[FR Doc. 2022-26843 Filed 12-8-22; 8:45 am]

BILLING CODE 6717-01-P